DEPARTMENT OF THE INTERIOR

Fish and Wildlife Service

[FWS-R8-ES-2013-N190; FXES11130800000-134-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before October 10, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-208907

Applicant: Thomas Juhasz, Pasadena, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-117947

Applicant: Kevin B. Clark, San Diego, California

The applicant requests a permit renewal to take (harass by survey, locate and monitor nests) the southwestern willow flycatcher (Empidonax traillii extimus) and the California least tern (Sternula antillarum browni) (Sterna a. b.); take (locate and monitor nests; play taped vocalizations; handle, band, color-band, and release) the least Bell's vireo (Vireo belli pusillus); take (survey by pursuit) the Quino checkerspot butterfly (Euphydryas editha quino); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and nest monitoring activities throughout the range of each species in California for the purpose of enhancing the species' survival.

Permit No. TE-208907

Applicant: Kelly E. Bayne, Sacramento, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-082237

Applicant: California State Parks, San Simeon, California

The applicant requests a permit renewal to take (locate, capture, handle, measure, relocate, and release) the Morro shoulderband snail (Helminthoglypta walkeriana) and take (capture, handle, and release) the Morro Bay kangaroo rat (Dipodomys heermanni morroensis) in conjunction with population monitoring, relocation, and habitat enhancement activities in San Luis Obispo County, California, for the purpose of enhancing the species' survival.

Permit No. TE-06145B

Applicant: Andrew F. Borcher, Santee, California

The applicant requests an amendment to a permit to take (survey by pursuit) the Quino checkerspot butterfly (Euphydryas editha quino) in conjunction with surveys throughout the range of the species in California for the purpose of enhancing the species' survival.

Permit No. TE-11271B

Applicant: Heron Pacific LLC, Rocklin, California

The applicant requests a permit to take (harass by survey, capture, handle, and release) the California tiger salamander (Santa Barbara County DPS and Sonoma County DPS) (Ambystoma californiense); take (survey, capture, handle, measure, and release) the giant kangaroo rat (Dipodomys ingens); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-831207

Applicant: Natural Resources Assessment, Riverside, California

The applicant requests a permit renewal to take (survey, capture, handle, and release) the Pacific pocket mouse (Perognathus longimembris pacificus), Stephens' kangaroo rat (Dipodomys stephensi), and San Bernardino kangaroo rat (Dipodomys merriami parvus) in conjunction with survey activities throughout the range of each species in California for the purpose of enhancing the species' survival.

Permit No. TE-028223

Applicant: Jonathan E. Stead, Oakland, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-72047A

Applicant: Matrina Pernicano, Golden, Colorado

The applicant requests a permit amendment to take (harass by survey and locate and monitor nests) the southwestern willow flycatcher (Empidonax traillii extimus) in conjunction with survey and population monitoring activities throughout the range of each species in Nevada, Arizona, New Mexico, Texas, Utah, and Colorado for the purpose of enhancing the species' survival.

Permit No. TE-211099

Applicant: Kenneth A. Glass, Fresno, California

The applicant requests a permit renewal to take (harass by survey, capture, handle, and release) the California tiger salamander (Santa Barbara County DPS and Sonoma County DPS) (Ambystoma californiense); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-142436

Applicant: Eric Renfro, Torrance, California

The applicant requests an amendment to a permit to take (survey by pursuit) the Delhi Sands flower-loving fly (Rhaphiomidas terminatus abdominalis) in conjunction with surveys throughout the range of the species in California for the purpose of enhancing the species' survival.

Permit No. TE-206822

Applicant: Brian S. Shomo, Torrance, California

The applicant requests a permit renewal and amendment to take (survey, capture, handle, collect genetic material, and release) the Stephens' kangaroo rat (Dipodomys stephensi) in conjunction with survey activities throughout the range of the species in California for the purpose of enhancing the species' survival.

Permit No. TE-094845

Applicant: Matthew P. Bettelheim, Concord, California

The applicant requests a permit renewal to take (harass by survey, capture, handle, and release) the California tiger salamander (Santa Barbara County DPS and Sonoma County DPS) (Ambystoma californiense) in conjunction with survey activities throughout the range of the species in California for the purpose of enhancing the species' survival.

Permit No. TE-13628B

Applicant: Anderson J. Andrew, Chico, California

The applicant requests a permit to take (capture, collect, and collect vouchers) the Conservancy fairy shrimp (Branchinecta conservatio), longhorn fairy shrimp (Branchinecta longiantenna), and vernal pool tadpole shrimp (Lepidurus packardi) in conjunction with surveys and soil inoculum collection activities in Butte, Glenn, Tehama, Shasta, Sacramento, Placer, and Sutter Counties, California, for the purpose of enhancing the species' survival.

Permit No. TE-13632B

Applicant: Elena C. Greg, Chico, California

The applicant requests a permit to take (capture, collect, and collect vouchers) the Conservancy fairy shrimp (Branchinecta conservatio), longhorn fairy shrimp (Branchinecta longiantenna), and vernal pool tadpole shrimp (Lepidurus packardi) in conjunction with surveys and soil inoculum collection activities in Butte, Glenn, Tehama, Shasta, Sacramento, Placer, and Sutter Counties, California, for the purpose of enhancing the species' survival.

Permit No. TE-13703B

Applicant: California Living Museum, Bakersfield, California

The applicant requests a permit to take (collect and acquire injured and/or sick animals, captive rear, perform general husbandry, release healthy individuals, and retain animals unfit for reintroduction) the following species in conjunction with rehabilitation, exhibition, public education and outreach programs, research, captive propagation, and population enhancement studies throughout the range of each species in California for the purpose of enhancing the species' survival:

• Arroyo toad (arroyo southwestern) (Anaxyrus californicus (Bufo microscaphus c.))

• Mountain yellow-legged frog (southern California DPS) (Rana muscosa)

• California tiger salamander (Sonoma County and Santa Barbara DPS) (Ambystoma californiense)

• California condor (Gymnogyps californianus)

• Riparian brush rabbit (Sylvilagus bachmani riparius)

• Morro Bay kangaroo rat (Dipodomys heermanni morroensis)

• Tipton kangaroo rat (Dipodomys nitratoides nitratoides)

• Giant kangaroo rat (Dipodomys ingens)

• Stephens' kangaroo rat (Dipodomys stephensi)

• Riparian woodrat (San Joaquin Valley woodrat) (Neotoma fuscipes riparia)

• San Joaquin kit fox (Vulpes macrotis mutica)

• San Miguel Island fox (Urocyon littoralis littoralis)

• Santa Catalina Island fox (Urocyon littoralis catalinae)

• Santa Cruz Island fox (Urocyon littoralis santacruzae)

• Santa Rosa Island fox (Urocyon littoralis santarosae)

• Sierra Nevada bighorn sheep (Ovis canadensis sierrae)

• Nelson bighorn (Peninsular Ranges DPS, Peninsular bighorn sheep) (Ovis canadensis nelsoni)

The applicant also requests a permit to take (captive propagate and release) the Tipton kangaroo rat (Dipodomys nitratoides nitratoides), in conjunction with rehabilitation, exhibition, public education and outreach programs, research, captive propagation, and population enhancement studies throughout the range of the species in California for the purpose of enhancing the species' survival.

Permit No. TE-022649

Applicant: Joseph E. Messin, Temecula, California

The applicant requests a permit renewal and amendment to take (survey, capture, handle, collect genetic material, and release) the Stephens' kangaroo rat (Dipodomys stephensi) in conjunction with survey activities throughout the range of the species in California for the purpose of enhancing the species' survival.

Permit No. TE-13636B

Applicant: Michaela L. Hoffman, Pismo Beach, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-006328

Applicant: Michael B. Drake, Tehachapi, California

The applicant requests an amendment to a permit to take (survey by pursuit) the Quino checkerspot butterfly (Euphydryas editha quino) and Delhi Sands flower-loving fly (Rhaphiomidas terminatus abdominalis) in conjunction with surveys throughout the range of each species in California for the purpose of enhancing the species' survival.

Permit No. TE-13639B

Applicant: Anastasia G. Ennis, San Francisco, California

The applicant requests a permit to take (survey, capture, handle, collect genetic material, and release) the salt marsh harvest mouse (Reithrodontomys raviventris) in conjunction with survey activities throughout the range of the species in California for the purpose of enhancing the species' survival.

Permit No. TE-091857

Applicant: Denise Duffy & Associates, Monterey, California

The applicant requests a permit renewal to take (harass by survey, capture, handle, collect genetic material, and release) the California tiger salamander (Santa Barbara County DPS and Sonoma County DPS) (Ambystoma californiense) in conjunction with survey and research activities throughout the range of the species in California for the purpose of enhancing the species' survival.

Permit No. TE-200339

Applicant: Sarah Foster, Sacramento, California

The applicant requests a permit to take (survey and nest monitor) the California clapper rail (Rallus longirostris obsoletus) in conjunction with population studies in Marin, Sonoma, Napa, Solano, Contra Costa, San Mateo, Santa Clara, and Alameda Counties, California, for the purpose of enhancing the species' survival.

Permit No. TE-13691B

Applicant: Christine L. Slocomb, San Diego, California

The applicant requests a permit to take (survey, capture, handle, and release) the Stephens' kangaroo rat (Dipodomys stephensi) and San Bernardino kangaroo rat (Dipodomys merriami parvus) in conjunction with survey activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael M. Long,
Regional Director, Pacific Southwest Region, Sacramento, California.

[FR Doc. 2013-21922 Filed 9-9-13; 8:45 am]

BILLING CODE 4310-55-P